DEPARTMENT OF COMMERCE

Foreign-Trade Zones Board

[Docket 61-2003]

Foreign-Trade Zone 77—Memphis, TN, Expansion of Manufacturing Authority—Subzone 77A, Sharp Manufacturing Company of America, (Consumer and Business Electronics) Shelby County, TN; Correction

The Federal Register notice (68 FR 65246-65247, 11/19/2003) describing the application by the City of Memphis, Tennessee, grantee of FTZ 77, requesting to expand the scope of manufacturing authority under zone procedures within Subzone 77A, at the Sharp Manufacturing Company of America facilities in Shelby County, Tennessee, is corrected as follows:

Paragraph 7 should read, “Rebuttal comments in response to material submitted during the foregoing period may be submitted during the subsequent 15-day period (to February 4, 2004).”

Dated: November 26, 2003.
Pierre V. Duy,
Acting Executive Secretary.

[FR Doc. 03-30126 Filed 12-2-03; 8:45 am]

BILLING CODE 3510-DS-P